DEPARTMENT OF TRANSPORTATION

Federal Aviation Administration

14 CFR Part 39

[Docket No. FAA-2023-0666; Project Identifier MCAI-2022-00555-Q; Amendment 39-22484; AD 2023-12-25]

RIN 2120-AA64

Airworthiness Directives; Survitec Group Limited (RFD Beaufort Ltd.) Life Jackets

AGENCY: Federal Aviation Administration (FAA), DOT.

ACTION: Final rule.

SUMMARY: The FAA is adopting a new airworthiness directive (AD) for certain Survitec Group Limited (RFD Beaufort Ltd.) Type 102 Mk 3, 102 Mk 4, and 105 Mk 1 life jackets. This AD was prompted by a report that some life jackets were found packed in the wrong valise (container). This AD requires an inspection for a discrepancy (mismatch of the valise/container description and life jacket type) of life jackets and, if necessary, replacement of the life jacket. This AD also limits the installation of affected parts under certain conditions. The FAA is issuing this AD to address the unsafe condition on these products.

DATES: This AD is effective August 23, 2023.

The Director of the Federal Register approved the incorporation by reference of a certain publication listed in this AD as of August 23, 2023.

ADDRESSES:

AD Docket: You may examine the AD docket at regulations.gov under Docket No. FAA-2023-0666; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact Survitec Group Limited, t/a RFD Beaufort Ltd, Kingsway, Dunmurry, Belfast BT17 9AF, United Kingdom; telephone +44 2890 301531; fax +44 2890 621765; email steve.pickering@survitecgroup.com; website survitecgroup.com.

• You may view this service information at the FAA, Airworthiness Products Section, Operational Safety Branch, 2200 South 216th St., Des Moines, WA. For information on the availability of this material at the FAA, call 206-231-3195. It is also available at regulations.gov under Docket No. FAA-2023-0666.

FOR FURTHER INFORMATION CONTACT: Kevin Kung, Aviation Safety Engineer, FAA, 1600 Stewart Avenue, Suite 410, Westbury, NY 11590; telephone 781-238-7244; email 9-AVS-AIR-BACO-COS@faa.gov.

SUPPLEMENTARY INFORMATION:

Background

The FAA issued a notice of proposed rulemaking (NPRM) to amend 14 CFR part 39 by adding an AD that would apply to certain Survitec Group Limited (RFD Beaufort Ltd.) Type 102 Mk 3, 102 Mk 4, and 105 Mk 1 life jackets. The NPRM published in the Federal Register on April 10, 2023 (88 FR 21117). The NPRM was prompted by AD G-2022-0009, dated April 21, 2022 (referred to after this as the MCAI), issued by The Civil Aviation Authority (CAA), which is the aviation authority for the United Kingdom (U.K.) (U.K. CAA AD G-2022-0009). The MCAI states Type 102 Mk 3 and Type 102 Mk 4 life jackets are designed for use by an adult or child. Type 105 Mk 1 life jackets are designed for use by an infant. Each is packed in a clear polyvinyl chloride (PVC) valise, which is marked ADULT/CHILD, CREW, or INFANT. Due to differences in parameters such as neck aperture and buoyancy, an infant life jacket cannot be used by an adult or child; likewise, an adult/child life jacket cannot be used by an infant. The MCAI states that Survitec has found that some life jackets were packed in the wrong valise. This could cause incorrect life jackets to be provided for passengers onboard an aircraft.

In the NPRM, the FAA proposed to require an inspection for a discrepancy (mismatch of the valise/container description and life jacket type) of life jackets and, if necessary, replacement of the life jacket. The NPRM also proposed to limit the installation of affected parts under certain conditions. The FAA is issuing this AD to address incorrectly labeled life jackets, which could, in the event of a water landing or evacuation, result in the unavailability of a life jacket with correct flotation, and possible drowning.

You may examine the MCAI in the AD docket at regulations.gov under Docket No. FAA-2023-0666.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

The FAA reviewed Survitec [RFD] Alert Service Bulletin 25-207-A, Version 1, dated November 24, 2021. This service information specifies procedures for specifies procedures for a general visual inspection for a discrepancy (mismatch of valise/container description and life jacket type) of affected life jackets, reporting of all inspection results to Survitec, and if a discrepancy is found, replacement of affected life jackets. (This service information is identified throughout as “Survitec,” while “RFD” is identified on only the first page of the document. Although both “Survitec” and “RFD” are current company names, the service information applies to RFD life jackets.) This service information is reasonably available because the interested parties have access to it through their normal course of business or by the means identified in the ADDRESSES section.

Costs of Compliance

The FAA estimates that this AD affects 4 life jackets installed on, but not limited to, aircraft of U.S. registry. The FAA estimates the following costs to comply with this AD:

Estimated Costs for Required Actions
Labor cost | Parts cost | Cost per product | Cost on U.S. operators
1 work-hour × $85 per hour = $85 | None | $85 | $340

The FAA estimates the following costs to do any necessary on-condition action that would be required based on the results of any required actions. The FAA has no way of determining the number of aircraft that might need this on-condition action:

Estimated Costs of On-Condition Actions
Labor cost | Parts cost | Cost per product
1 work-hour × $85 per hour = $85 | $55 | $140

The FAA has included all known costs in its cost estimate. According to the manufacturer, however, some or all of the costs of this AD may be covered under warranty, thereby reducing the cost impact on affected operators.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-12-25 Survitec Group Limited (RFD Beaufort Ltd): Amendment 39-22484; Docket No. FAA-2023-0666; Project Identifier MCAI-2022-00555-Q.

(a) Effective Date

This airworthiness directive (AD) is effective August 23, 2023.

(b) Affected ADs

None.

(c) Applicability

This AD applies to Survitec Group Limited (RFD Beaufort Ltd.) life jackets identified in paragraphs (c)(1) and (2) of this AD, having a part number and serial number identified in tables 2 through 13 of Survitec [RFD] Alert Service Bulletin 25-207-A, Version 1, dated November 24, 2021, and a date of manufacture between October 1, 2018, and April 30, 2019, inclusive.

Note 1 to the introductory text of paragraph (c): This alert service bulletin is identified throughout as “Survitec,” while “RFD” is identified on only the first page of the document. Although both “Survitec” and “RFD” are current company names, the alert service bulletin applies to RFD life jackets.

(1) Type 102 Mk 3 and 102 Mk 4 life jackets, approved under European Union Aviation Safety Agency (EASA) Technical Standard Order Authorization EASA.21O.799.

(2) Type 105 Mk 1 life jackets, approved under United Kingdom Civil Aviation Authority (U.K. CAA) Aircraft Equipment Approval (AEAR) E15841.

(d) Subject

Air Transport Association (ATA) of America Code 25, Equipment/Furnishings.

(e) Unsafe Condition

This AD was prompted by a report that some life jackets were found packed in the wrong valise (container). The FAA is issuing this AD to address incorrectly labeled life jackets. The unsafe condition, if not addressed, and combined with a water landing or evacuation, could result in inability to use a life jacket with correct flotation and possible drowning.

(f) Compliance

Comply with this AD within the compliance times specified, unless already done.

(g) Inspection

Within 4 months after the effective date of this AD, do a general visual inspection for a discrepancy (mismatch of the valise/container description and life jacket type) of the life jacket, in accordance with paragraphs 2.A. through 2.C. of the Accomplishment Instructions of Survitec [RFD] Alert Service Bulletin 25-207-A, Version 1, dated November 24, 2021.

(h) Follow-On and Corrective Action

Before further flight after accomplishing the requirements of paragraph (g) of this AD, do the applicable actions required by paragraph (h)(1) and (2) of this AD.

(1) If no discrepancies are found during the inspection required by paragraph (g) of this AD, re-identify that part in accordance with paragraph 2.D.(1) of the Accomplishment Instructions of Survitec [RFD] Alert Service Bulletin 25-207-A, Version 1, dated November 24, 2021.

(2) If any discrepancy is found during the inspection required by paragraph (g) of this AD, do the actions required by paragraphs (h)(2)(i) and (ii) of this AD.

(i) Record the unserviceable part in accordance with paragraph 2.E.(1) of the Accomplishment Instructions of Survitec [RFD] Alert Service Bulletin 25-207-A, Version 1, dated November 24, 2021.

(ii) Replace the discrepant part with a new or serviceable part, in accordance with paragraph 2.E.(2) of the Accomplishment Instructions of Survitec [RFD] Alert Service Bulletin 25-207-A, Version 1, dated November 24, 2021.

(i) Parts Installation Limitation

As of the effective date of this AD, no person may install a life jacket identified in paragraph (c) of this AD on any airplane, unless the life jacket and its valise/container have been inspected, and re-identified or replaced as applicable, in accordance with the requirements of paragraphs (g) and (h) of this AD.

(j) Reporting Requirement

At the applicable time specified in paragraph (j)(1) or (2) of this AD, submit a report of the inspection results to Survitec, in accordance with paragraph 2.F. of the Accomplishment Instructions of Survitec [RFD] Alert Service Bulletin 25-207-A, Version 1, dated November 24, 2021.

(1) If the inspection was done on or after the effective date of this AD: Submit the report within 30 days after the inspection.

(2) If the inspection was done before the effective date of this AD: Submit the report within 30 days after the effective date of this AD.

(k) Special Flight Permits

Special flight permits, as described in 14 CFR 21.197 and 21.199, are not allowed.

(l) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the manager, International Validation Branch, mail it to the address identified in paragraph (m)(2) of this AD or email to: 9-AVS-AIR-BACO-COS@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or the U.K. CAA; or Survitec Group Limited's U.K. CAA's Alternative Procedure for Design Organization Approval (ADOA). If approved by the ADOA, the approval must include the ADOA-authorized signature.

(m) Additional Information

(1) Refer to U.K. CAA AD G-2022-0009, dated April 21, 2022, for related information. This U.K. CAA AD may be found in the AD docket at regulations.gov under Docket No. FAA-2023-0666.

(2) For more information about this AD, contact Kevin Kung, Aviation Safety Engineer, FAA, 1600 Stewart Avenue, Suite 410, Westbury, NY 11590; telephone 781-238-7244; email 9-AVS-AIR-BACO-COS@faa.gov.

(n) Material Incorporated by Reference

(1) The Director of the Federal Register approved the incorporation by reference of the service information listed in this paragraph under 5 U.S.C. 552(a) and 1 CFR part 51.

(2) You must use this service information as applicable to do the actions required by this AD, unless this AD specifies otherwise.

(i) Survitec [RFD] Alert Service Bulletin 25-207-A, Version 1, dated November 24, 2021.

Note 2 to paragraph (n)(2)(i): This alert service bulletin is identified throughout as “Survitec,” while “RFD” is identified on only the first page of the document. Although both “Survitec” and “RFD” are current company names, the alert service bulletin applies to RFD life jackets.

(ii) [Reserved]

(3) For service information identified in this AD, contact Survitec Group Limited, Kingsway, Dunmurry, Belfast BT17 9AF, United Kingdom; phone: +44 2890 301531, fax: +44 2890 621765; email: steve.pickering@survitecgroup.com; website survitecgroup.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on June 28, 2023.
Michael Linegang,
Acting Director, Compliance & Airworthiness Division, Aircraft Certification Service.

[FR Doc. 2023-15176 Filed 7-18-23; 8:45 am]

BILLING CODE 4910-13-P